DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Firearms Convention.

Agency Form Number: BIS-748P.

OMB Approval Number: 0694-0114.

Type of Request: Renewal of an existing collection of information.

Burden: 619 hours.

Average Time Per Response: 30 minutes per response

Number of Respondents: 1,238 respondents.

Needs and Uses: This collection is required by Sections 742.17 and 748.14 of the Export Administration Regulations (EAR), which are authorized by Section 15(b) of the Export Administration Act of 1979, as amended (EAA). The EAA authorizes the President to control exports of U.S. goods and technology to all foreign destinations, as necessary for the purposes of national security, foreign policy and short supply. The President delegated export control authority to the Secretary of Commerce and the Bureau of Industry and Security (BIS) administers this function.

Affected Public: Individuals, businesses or other for-profit institutions.

Respondent's Obligation: Required.

OMB Desk Officer: David Rostker.

Copies of the above information collection proposal can be obtained by calling or writing Diana Hynek, DOC Paperwork Clearance Officer, (202) 482-0266, Department of Commerce, Room 6625, 14th and Constitution Avenue, NW., Washington, DC 20230 or via Internet at DHynek@doc.gov.

Written comments and recommendations for the proposed information collection should be sent within 30 days of publication of this notice to David Rostker, OMB Desk Officer, e-mail address, David_Rostker@omb.eop.gov, or fax number, (202) 395-7285.

Dated: February 23, 2006.
Madeleine Clayton,
Management Analyst, Office of the Chief Information Officer.

[FR Doc. E6-2821 Filed 2-28-06; 8:45 am]

BILLING CODE 3510-DT-P